DEPARTMENT OF THE INTERIOR

Bureau of Land Management

[14XL.LLID9570000.L14200000.BJ0000.241A.4500066542]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9:00 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

The plat representing the dependent resurvey of a portion of the subdivisional lines, Township 19 North, Range 2 East, of the Boise Meridian, Idaho, Group Number 1390, was accepted April 25, 2014.

The plats representing the dependent resurvey of a portion of the township boundary between Townships 9 and 10 North, the subdivisional lines, and subdivision of certain sections, in Township 9 North, Range 17 East and Townships 9 and 10 North, Range 18 East, of the Boise Meridian, Idaho, Group Number 1386, were accepted June 3, 2014.

The plat representing the dependent resurvey of portions of the south and east boundaries, and subdivisional lines, and the metes-and-bounds surveys of Tracts 37 and 38, Township 50 North, Range 3 West, of the Boise Meridian, Idaho, Group Number 1371, was accepted June 25, 2014.

The plat representing the dependent resurvey of portions of the north boundary and subdivisional lines, and a metes-and-bounds survey in section 5, Township 31 North, Range 1 East, of the Boise Meridian, Idaho, Group Number 1379, was accepted June 25, 2014.

This survey was executed at the request of the Department of Defense to meet their administrative needs. The lands surveyed are:

The plat representing the dependent resurvey of a portion of the township boundary between Townships 4 and 5 South, the subdivisional lines and subdivision of sections, and a metes-and-bounds survey, in Townships 4 and 5 South, Range 5 East, of the Boise Meridian, Idaho, Group Number 1373, was accepted May 20, 2014.

This survey was executed at the request of the Bureau of Indian Affairs to meet their administrative needs. The lands surveyed are:

The plat representing the dependent resurvey of portions of the west boundary, subdivisional lines, and subdivision of sections 8 and 34, and the subdivision of sections 19, 32, and 33, and the further subdivision of sections 8 and 34, Township 35 North, Range 2 West, of the Boise Meridian, Idaho, Group Number 1354, was accepted June 25, 2014.

This survey was executed at the request of the Natural Resources Conservation Service to meet their administrative needs. The lands surveyed are:

The plat represents the dependent resurvey of a portions of the east boundary and subdivisional lines, and the subdivision of section 12, and the metes-and-bounds survey of a portion of U.S.D.A. NRCS easements lands, NRCS Project No. 83021112019L2, Township 5 North, Range 25 East, of the Boise Meridian, Idaho, Group Number 1394, is accepted June 12, 2014.

These surveys were executed at the request of the U.S.D.A. Forest Service to meet their administrative needs. The lands surveyed are:

SUMMARY: The Bureau of Land Management (BLM) will file the plat of survey of the lands described below in the BLM Idaho State Office, Boise, Idaho, 30 days from the date of publication in the Federal Register. This survey was executed at the request of the U.S. Forest Service to meet certain administrative and management purposes.

The plat representing the dependent resurvey of a portion of Tract 39, and the survey of portions of the east boundary and subdivisional lines, Township 30 North, Range 7 East, of the Boise Meridian, Idaho, Group Number 1324, was accepted June 19, 2014.

Dated: July 1, 2014.
Jeff A. Lee,
Acting Chief Cadastral Surveyor for Idaho.

[FR Doc. 2014-15999 Filed 7-8-14; 8:45 am]

BILLING CODE 4310-GG-P